DEPARTMENT OF HEALTH AND HUMAN SERVICES

Food and Drug Administration

Food Advisory Committee; Notice of Meeting

AGENCY: Food and Drug Administration, HHS.

ACTION: Notice.

SUMMARY: This notice announces a forthcoming meeting of a public advisory committee of the Food and Drug Administration (FDA). The meeting will be open to the public.

Name of Committee: Food Advisory Committee.

General Function of the Committee: To provide advice and recommendations to the agency on scientific issues related to FDA's regulatory responsibilities.

Date and Time: The meeting will be held on April 4, 2002, from 9 a.m. to 6 p.m. and April 5, 2002, from 8:30 a.m. to 2 p.m.

Location: Marriott Hotel, Grand Ballroom, 6400 Ivy Lane, Greenbelt, MD, 301-441-3700.

Contact Person: Catherine M. DeRoever, Center for Food Safety and Applied Nutrition (HFS-6), Food and Drug Administration, 5100 Paint Branch Pkwy., College Park, MD 20740, 301-436-2397, or FDA Advisory Committee Information Line, 1-800-741-8138 (301-443-0572 in the Washington, DC area), code 10564. Please call the Information Line for up-to-date information on this meeting.

Agenda: The purpose of this meeting is to discuss general scientific principles related to quality factors for infant formula. The committee will also be asked to discuss the scientific issues related to the generalization of findings from a clinical study using preterm infant formula consumed by preterm infants to a term infant formula intended for use by term infants.

Procedure: Interested persons may present data, information, or views, orally or in writing, on issues pending before the committee. Written submissions may be made to the contact person by April 1, 2002. Oral presentations from the public will be scheduled on April 4, 2002, between approximately 1 p.m. and 6 p.m. Time allotted for each presentation may be limited. Those desiring to make formal oral presentations should notify the contact person before April 1, 2002, and submit a brief statement of the general nature of the evidence or arguments they wish to present, the names and addresses of proposed participants, and an indication of the approximate time requested to make their presentation.

Persons attending FDA's advisory committee meetings are advised that the agency is not responsible for providing access to electrical outlets.

FDA welcomes the attendance of the public at its advisory committee meetings and will make every effort to accommodate persons with physical disabilities or special needs. If you require special accommodations due to a disability, please contact Catherine M. DeRoever at least 7 days in advance of the meeting.

Notice of this meeting is given under the Federal Advisory Committee Act (5 U.S.C. app. 2).

Dated: March 14, 2002.
Linda A. Suydam,
Senior Associate Commissioner for Communications and Constituent Relations.

[FR Doc. 02-6620 Filed 3-14-02; 4:50 pm]

BILLING CODE 4160-01-S